NUCLEAR REGULATORY COMMISSION

[NRC-2011-0290]

Biweekly Notice; Applications and Amendments to Facility Operating Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from December 1, 2011 to December 14, 2011. The last biweekly notice was published on December 13, 2011 (76 FR 77565).

Addresses: Please include Docket ID NRC-2011-0290 in the subject line of your comments. Comments submitted in writing or in electronic form will be posted on the NRC Web site and on the Federal rulemaking Web site http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods.

Federal Rulemaking Web site: Go to http://www.regulations.gov and search for documents filed under Docket ID NRC-2011-0290. Address questions about NRC dockets to Carol Gallagher (301) 492-3668; email Carol.Gallagher@nrc.gov.

Mail comments to: Cindy Bladey, Chief, Rules, Announcements, and Directives Branch (RADB), Office of Administration, Mail Stop: TWB-05-B01M, U.S. Nuclear Regulatory Commission, Washington, DC 20555-0001, or by fax to RADB at (301) 492-3446.

You can access publicly available documents related to this notice using the following methods:

NRC's Public Document Room (PDR): The public may examine and have copied for a fee publicly available documents at the NRC's PDR, Room O1-F21, One White Flint North, 11555 Rockville Pike, Rockville, Maryland 20852.

NRC's Agencywide Documents Access and Management System (ADAMS): Publicly available documents created or received at the NRC are accessible electronically through ADAMS in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. From this page, the public can gain entry into ADAMS, which provides text and image files of NRC's public documents. If you do not have access to ADAMS or if there are problems in accessing the documents located in ADAMS, contact the NRC's PDR reference staff at 1-(800) 397-4209, (301) 415-4737, or by email to pdr.resource@nrc.gov.

Federal Rulemaking Web site: Public comments and supporting materials related to this notice can be found at http://www.regulations.gov by searching on Docket ID: NRC-2011-0290.

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR) 50.92, this means that operation of the facility in accordance with the proposed amendment would not (1) involve a significant increase in the probability or consequences of an accident previously evaluated; (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the NRC's PDR, located at One White Flint North, Room O1-F21, 11555 Rockville Pike (first floor), Rockville, Maryland 20852. NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in the NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at (301) 415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at 1-(866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC PDR Reference staff at 1-(800) 397-4209, (301) 415-4737, or by email to pdr.resource@nrc.gov.

Entergy Gulf States Louisiana, LLC, and Entergy Operations, Inc., Docket No. 50-458, River Bend Station, Unit 1, West Feliciana Parish, Louisiana

Date of amendment request: September 12, 2011, as supplemented by letter dated October 13, 2011.

Description of amendment request: The amendment would revise the River Bend Station emergency plan to relocate its alternate Emergency Operations Facility (EOF) from 23 miles to 28 miles from the Technical Support Center (TSC).

Basis for proposed no significant hazards consideration determination: As required by 10 CFR 50.91(a), the licensee has provided its analysis of the issue of no significant hazards consideration, which is presented below:

1. Does the proposed amendment involve a significant increase in the probability or consequences of an accident previously evaluated?

Response: No.

The proposed change does not increase the probability or consequences of an accident. The change only impacts the implementation of the Emergency Plan by relocating the alternate EOF to another facility. It has no impact on plant equipment or the operation of plant equipment and thus has no impact on the probability or consequences of an event. The capabilities of the alternate EOF have not been revised from the current Emergency Plan. The proposed facility will have the capabilities to obtain and display plant data and radiological information to assess plant and radiological release conditions, perform offsite dose projections, make public protective action recommendations and perform offsite notifications to State and Local agencies.

2. Does the proposed change create the possibility of a new or different kind of accident from any accident previously evaluated?

Response: No.

The change only impacts the implementation of the Emergency Plan by relocating the alternate EOF. The change does not impact any plant equipment or systems needed to respond to an accident, nor does it involve any analysis of plant accidents. The proposed change does not create a new or different kind of accident from any previously evaluated because this change only impacts the location of the Alternate EOF.

3. Does the proposed change involve a significant reduction in a margin of safety?

Response: No.

The change to the Emergency Plan does not reduce the margin of safety currently provided by the Plan as it maintains the capabilities of the current alternate EOF. Offsite dose calculations, offsite notifications to state and local agencies, and public protective action recommendations will continue to be performed by alternate EOF personnel. Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Entergy Nuclear Operations, Inc., Docket No. 50-247, Indian Point Nuclear Generating Unit 2, Westchester County, New York

Date of amendment request: October 18, 2011.

Description of amendment request: The proposed amendment would change the Technical Specification (TS) Section 3.3.3, Table 3.3-1, to revise the existing requirement for two channels of the Containment Water Level (Containment Sump) function and two channels of the Containment Sump Water Level (Recirculation Sump) function to two Containment Water Level channels. This is consistent with the Standard Technical Specification NUREG 1431.

Basis for proposed no significant hazards consideration determination: As required by 10 CFR 50.91(a), the licensee has provided its analysis of the issue of no significant hazards consideration, which is presented below:

1. Does the proposed amendment involve a significant increase in the probability or consequences of an accident previously evaluated?

Response: No.

The proposed change will revise the requirements for water level monitors from 4 to 2. These level indicators are provided for monitoring the post-accident water level in the bottom of the containment to aid operator action to initiate recirculation and to assess the potential for excessive level. The presence or absence of these instruments has no bearing on accident precursor conditions or events. The proposed requirement will maintain redundancy and, utilizing the RWST [Refueling Water Storage Tank] level indication, diversity to continue to provide information to the plant operators to monitor and manage accident conditions.

Therefore, the proposed change does not involve a significant increase in the probability or consequences of previously evaluated accidents.

2. Does the proposed amendment create the possibility of a new or different kind of accident from any accident previously evaluated?

Response: No.

The proposed change will revise the requirements for water level monitors from four to two. The change reduces the number of channels required but retains redundancy and, coupled with the RWST level indication, diversity of indication. The Technical Specification does not require the instruments for normal plant operations and does not affect how the plant is operated. The removal of the two indicators does not create the possibility of any equipment failure or effect on other equipment.

Therefore, the proposed change does not create the possibility of a new or different kind of accident from any previously evaluated.

3. Does the proposed amendment involve a significant reduction in a margin of safety?

Response: No.

The proposed change will revise the required number of water level monitors. The revised requirement will remain consistent with the requirements found in the Standard Technical Specification for level monitors provided for monitoring the post-accident water level. The level monitors no longer required by the TS will continue to serve as backup instrumentation for the instruments on the same power supply as long as they continue to meet surveillance requirements. Other instrument channels will remain in service and provide diverse indication for operator response and to support existing accident mitigation strategies. The proposed change does not involve changes to existing setpoints for automatic or operator actions.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 440 Hamilton Avenue, White Plains, NY 10601.

NRC Branch Chief: Nancy L. Salgado.

Entergy Nuclear Operations, Inc., Docket Nos. 50-247 and 50-286, Indian Point Nuclear Generating Unit 2 and 3 [IP2 and IP3], Westchester County, New York

Date of amendment request: September 16, 2011.

Description of amendment request: The proposed amendment would delete the references to the American Society of Mechanical Engineers (ASME) Boiler and Pressure Vessel Code, Section XI and incorporates references to the ASME Code for Operation and Maintenance of Nuclear Power Plants (ASME OM Code) and indicates that the allowance for a 25% extension of surveillance intervals may be applied to accelerated frequencies utilized in the inservice testing program.

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises [IP2], TS [Technical Specification] 5.5.6 and [IP3], TS 5.5.7, Inservice Testing Program, for consistency with the requirements of 10 CFR 50.55a(f)(4) for pumps and valves which are classified as American Society of Mechanical Engineers (ASME) Code Class 1, Class 2 and Class 3. The proposed change incorporates revisions to the ASME Code that result in a net improvement in the measures for testing pumps and valves.

The proposed change does not impact any accident initiators or analyzed events or assumed mitigation of accident or transient events. The proposed change does not involve the addition or removal of any equipment, or any design changes to the facility.

Therefore, this proposed change does not represent a significant increase in the probability or consequences of an accident previously evaluated.

2. Does the proposed amendment create the possibility of a new or different kind of accident from any accident previously evaluated?

Response: No.

The proposed change revises [P2], TS 5.5.6 and [IP3], TS 5.5.7, Inservice Testing Program, for consistency with the requirements of 10 CFR 50.55a(f)(4) for pumps and valves which are classified as American Society of Mechanical Engineers (ASME) Code Class 1, Class 2 and Class 3. The proposed change incorporates revisions to the ASME Code that result in a net improvement in the measures for testing pumps and valves.

The proposed change does not involve a modification to the physical configuration of the plant (i.e., no new equipment will be installed) or change in the methods governing normal plant operation. The proposed change will not impose any new or different requirements or introduce a new accident initiator, accident precursor, or malfunction mechanism. Additionally, there is no change in the types or increases in the amounts of any effluent that may be released off-site and there is no increase in individual or cumulative occupational exposure.

Therefore, this proposed change does not create the possibility of an accident of a different kind than previously evaluated.

3. Does the proposed amendment involve a significant reduction in a margin of safety?

Response: No.

The proposed change revises [IP2], TS 5.5.6 and [IP3], TS 5.5.7, Inservice Testing Program, for consistency with the requirements of 10 CFR 50.55a(f)(4) for pumps and valves which are classified as American Society of Mechanical Engineers (ASME) Code Class 1, Class 2 and Class 3. The proposed change incorporates revisions to the ASME Code that result in a net improvement in the measures for testing pumps and valves. The safety function of the affected pumps and valves are maintained.

Therefore, this proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 440 Hamilton Avenue, White Plains, NY 10601.

NRC Branch Chief: Nancy L. Salgado.

NextEra Energy Seabrook, LLC, Docket No. 50-443, Seabrook Station, Unit 1, Rockingham County, New Hampshire

Date of amendment request: November 17, 2011.

Description of amendment request: The proposed change would revise Technical Specification 3.3.3.5, “Remote Shutdown System Table 3.3-9,” by removing the location information of transfer switches, control circuits and instruments.

Basis for proposed no significant hazards consideration (NSHC) determination: As required by 10 CFR 50.91(a), the licensee has provided its analysis of the issue of NSHC, which is presented below with NRC edits in brackets:

1. The proposed change does not involve a significant increase in the probability or consequences of an accident previously evaluated.

The proposed change does not impact the physical function of plant structures, systems, or components (SSCs) or the manner in which SSCs perform their design function. The proposed change neither adversely affects accident initiators or precursors, nor alters design assumptions. The proposed change does not alter or prevent the ability of operable SSCs to perform their intended function to mitigate the consequences of an initiating event within assumed acceptance limits.

The proposed change would remove the specific location information listed in Technical Specification 3.3.3.5, Remote Shutdown Systems; Table 3.3-9 for transfer switches/control circuits and instruments. The requirements in this Technical Specification would not change with the removal of the location information and the location information does not meet any of the criteria in 10 CFR 50.36c(2)(ii) for items that must be retained in the Technical Specifications. Removing the location information will have no adverse effect on plant operation, the availability or operation of any accident mitigation equipment, or plant response to a design basis accident.

Therefore, the proposed change does not involve a significant increase in the probability or consequences of an accident previously evaluated.

2. The proposed change does not create the possibility of a new or different kind of accident from any previously evaluated.

The proposed change will not impact the accident analysis. The change does not involve a physical alteration of the plant (i.e., no new or different type of equipment will be installed), a significant change in the method of plant operation, or new operator actions. The proposed change will not introduce failure modes that could result in a new accident. The change does not alter assumptions made in the safety analysis.

Therefore, the proposed change does not create the possibility of a new or different kind of accident from any accident previously evaluated.

3. The proposed change[ does] not involve a significant reduction in the margin of safety.

Margin of safety is associated with confidence in the ability of the fission product barriers (i.e., fuel cladding, reactor coolant system pressure boundary, and containment structure) to limit the level of radiation dose to the public. The proposed change does not involve a change in the method of plant operation, and no accident analyses will be affected by the proposed changes.

Additionally, the proposed changes will not relax any criteria used to establish safety limits and will not relax any safety system settings. The safety analysis acceptance criteria are not affected by this change. The proposed change will not result in plant operation in a configuration outside the design basis. The proposed change does not adversely affect systems that respond to safely shutdown the plant and to maintain the plant in a safe shutdown condition.

Therefore, these proposed changes do not involve a significant reduction in a margin of safety.

The NRC staff has reviewed the licensee's analysis and, based on this review, it appears that the three standards of 50.92(c) are satisfied. Therefore, the NRC staff proposes to determine that the amendment request involves NSHC.

Attorney for licensee: M.S. Ross, Florida Power & Light Company, P.O. Box 14000, Juno Beach, FL 33408-0420.

NRC Branch Chief: Harold K. Chernoff.

Nine Mile Point Nuclear Station, LLC, (NMPNS) Docket Nos. 50-220 and 50-410, Nine Mile Point Nuclear Station, Unit 1 and 2 (NMP 1 and 2), Oswego County, New York

Date of amendment request: July 20, 2011, as supplemented on November 3, 2011.

Description of amendment request: The proposed amendment would revise the NMP1 Technical Specification (TS) Section 5.1, “Site,” and associated TS Figure 5.1-1, “Site Boundaries, Nine Mile Point—Unit 1,” and the NMP2 TS Figure 4.1-1, “Site Area and Land Portion of Exclusion Area Boundaries,” to reflect the transfer of a portion of the Nine Mile Point Nuclear Station, LLC (NMPNS) site real property located outside of the NMPNS Protected Area but within the current NMPNS Owner Controlled Area, as well as specified easements over the remainder of the NMPNS site, to Nine Mile Point 3 Nuclear Project, LLC (NMP3), a subsidiary of UniStar Nuclear Energy, LLC.

Basis for proposed no significant hazards consideration determination: As required by 10 CFR 50.91(a), the licensee has provided its analysis of the issue of no significant hazards consideration, which is presented below:

1. Does the proposed [change] involve a significant increase in the probability or consequences of an accident previously evaluated?

Response: No.

The proposed amendments are intended only to reflect the transfer of a portion of the NMPNS site real property to NMP3, relocate certain design details from the TS to the NMP1 and NMP2 safety analysis reports, and make other changes that are administrative in nature. No physical or operational changes to the facility will result from the proposed amendments, and the exclusion area boundary and low population zone will not be altered. The proposed amendments do not modify the design assumptions for systems or components used to mitigate the consequences of accidents, and the initial conditions and methodologies used in the NMP1 and NMP2 accident analyses remain unchanged.

2. Does the proposed [change] create the possibility of a new or different kind of accident from any accident previously evaluated?

Response: No.

The proposed amendments do not involve a physical alteration of the plants (no new or different type of equipment will be installed) or changes in methods governing normal plant operation. The safety functions of NMP1 and NMP2 structures, systems, or components are not changed in any manner, and the reliability of structures, systems, or components is not reduced. Thus, no new failure modes or potential accident initiators are introduced.

3. Does the proposed [change] involve a significant reduction in a margin of safety?

Response: No.

No physical or operational changes to NMP1 and NMP2 will result from the proposed amendments, and the exclusion area boundary and low population zone will not be altered. The proposed amendments do not affect any safety limits, setpoints, or safety analysis assumptions.

Therefore, the proposed amendments do not involve a significant reduction in a margin of safety.

The NRC staff has reviewed the licensee's analysis and, based on this review, it appears that the three standards of 10 CFR 50.92(c) are satisfied. Therefore, the NRC staff proposes to determine that the amendment request involves no significant hazards consideration.

Attorney for licensee: Carey W. Fleming, Senior Counsel, Constellation Energy Nuclear Group, LLC, 100 Constellation Way, Suite 200C, Baltimore, MD 21202.

NRC Branch Chief: Nancy L. Salgado.

Tennessee Valley Authority (TVA), Docket No. 50-327, Sequoyah Nuclear Plant, Unit 1, Hamilton County, Tennessee

Date of amendment request: September 29, 2011 (TS-SQN-2011-05).

Description of amendment request: During Sequoyah Nuclear Plant (SQN), Unit 2, fall 2012 refueling outage (RFO), the replacement steam generators will be installed. To support this activity, heavy load lifts will be conducted. The proposed amendment would add a one-time license condition to the SQN, Unit 1 operating license for the conduct of heavy load lifts for the SQN, Unit 2 steam generator replacement project (SGRP). The one-time license condition establishes special provisions and requirements for the safe operation of SQN, Unit 1, while large heavy load lifts are performed on SQN, Unit 2. In addition, a one-time change to SQN, Unit 1 Technical Specification 3.7.5, “Ultimate Heat Sink,” is also proposed to implement additional restrictions with respect to maximum average essential raw cooling water (ERCW) system supply header water temperature during large heavy load lifts performed to support the SQN, Unit 2 SGRP during fall 2012 RFO.

Basis for proposed no significant hazards consideration determination: As required by 10 CFR 50.91(a), the licensee has provided its analysis of the issue of no significant hazards consideration, which is presented below:

1. Does the proposed change involve a significant increase in the probability or consequences of an accident previously evaluated?

Response: No.

No changes in event classification as discussed in SQN Updated Final Safety Analysis Report Chapter 15, “Accident Analyses,” will occur due to the proposed one-time change to support the conduct of large heavy load lifts associated with the SQN, Unit 2, steam generator replacement project.

Accidents previously evaluated that are relevant to this determination are related to plant external events and load handling. The probability of an occurrence of a seismic event is determined by regional geologic conditions and has not changed. Weather related events are determined by regional meteorological conditions and the probability of occurrence of severe weather events has not changed.

The consequences of an earthquake have not changed. A seismic evaluation performed to support the SQN, Unit 2, steam generator replacement activities has determined that the Outside Lift System (OLS) would not collapse or result in a drop of the load during a seismic design basis Safe Shutdown Earthquake event for the lift configurations to be used during the SQN, Unit 2, steam generator replacement project. Similar qualification is demonstrated for the mobile crane, which will be used for handling smaller loads during the SQN, Unit 2, steam generator replacement project.

The consequences of a tornado or high winds have not changed. A lift will not commence if analysis of weather data for the expected duration of the lift indicates the potential for wind conditions in excess of the maximum operating wind speed. Rigging operations will not be performed when wind speeds exceed the maximum operating wind speed for the OLS. If wind speeds increase during a rigging operation such that the wind speed may exceed the maximum operating speed, rigging operations will be suspended and the unloaded OLS will be secured by implementing administrative controls specified by the manufacturer. Further, should there be an unexpected detrimental change in weather while the OLS is loaded, the lift will be completed and the OLS will be placed in its optimum safe configuration or the load will be grounded and the crane will be placed in a safe configuration. Similar qualification and administrative controls are also applied to the mobile crane used for handling smaller loads during the SQN, Unit 2, steam generator replacement project.

An old steam generator (OSG) drop has been postulated to occur to address the radiological consequences associated with the drop. The dose analysis demonstrated that the OSG drop accident consequences remain below applicable regulatory limits and are bounded by similar, previously evaluated accidents at SQN.

In addition, the proposed change establishes requirements to ensure that the ERCW System remains capable of supporting the continued operation and safe shutdown of SQN, Unit 1, and remains capable of maintaining the required cooling water flow to essential structures, systems, and components (SSCs) following a potential large heavy load drop. As such, the ERCW System will remain capable of performing its required safety function to support equipment credited in the mitigation of consequences of design basis events.

Therefore, the proposed change does not involve a significant increase in the probability or consequences of an accident previously evaluated.

2. Does the proposed change create the possibility of a new or different kind of accident from any accident previously evaluated?

Response: No.

Three postulated scenarios related to heavy load handling during the SQN, Unit 2, steam generator replacement activities were examined for their potential to represent a new or different kind of accident from those previously evaluated: 1) a breach of an OSG, resulting in the release of contained radioactive material, 2) flooding in the Auxiliary Building caused by the failure of piping in the ERCW tunnel, and 3) loss of ERCW to support safe shutdown of the operating Unit (SQN, Unit 1) and the continued supply of cooling water from the ERCW System to essential SSCs.

Failure of an OSG that results in a breach of the primary side of the steam generator could potentially result in a release of a contained source outside containment. The consequences of this event, both offsite and in the control room, were examined and were found to be within the consequences of the failure of other contained sources outside containment at the SQN site.

To preclude flooding of the Auxiliary Building due to a large heavy load drop, a temporary wall will be installed in the pipe tunnel near the Auxiliary Building interface. Thus, the postulated flooding of the ERCW tunnel will not result in flooding of the Auxiliary Building beyond those events previously evaluated.

The potential for a large heavy load drop to cause loss of ERCW supply to SQN, Unit 1, and other essential SSCs is considered an unlikely accident for the following reasons.

• The lifting equipment was specifically chosen for the subject heavy lifts,

• Crane operators will be specially trained in the operation of the lift equipment and in the SQN site conditions,

• Qualifying analyses and administrative controls will be used to protect the lifts from the effects of external events, and

• The areas over which a load drop could cause loss of ERCW are a small part of the total travel path of the loads.

In addition, protection against the potential for loss of ERCW is established by the proposed License Condition requirements and proposed Technical Specifications requirements. These requirements ensure that that ERCW System remains capable of supporting the continued operation and safe shutdown of SQN, Unit 1, and remains capable of maintaining the required cooling water flow to essential SSCs following a potential large heavy load drop.

Therefore, the proposed change does not create the possibility of a new or different kind of accident from any accident previously evaluated.

3. Does the proposed amendment involve a significant reduction in a margin of safety?

Response: No.

The proposed change to the SQN, Unit 1, Operating License and Technical Specifications supports safe operation and safe shutdown capabilities of SQN, Unit 1, during replacement of the SQN, Unit 2, steam generators. These proposed requirements do not result in changes in the design basis for SSCs and do not change the minimum amount of operating equipment credited in the safety analyses for accident or transient mitigation. The proposed change does not alter the assumptions contained in the safety analyses. The proposed change does not alter the manner in which safety limits, limiting safety system settings or limiting conditions for operation are determined. The proposed change does not impact the safety analysis-credited redundancy or availability of SSCs required for accident or transient mitigation, or the ability of the unit to cope with design basis events as assumed in safety analyses. Consequently, the proposed change will not affect any margins of safety for SSCs.

Therefore, the proposed change does not involve a significant reduction in the margin of safety.

The NRC staff has reviewed the licensee's analysis and, based on this review, it appears that the three standards of 50.92(c) are satisfied. Therefore, the NRC staff proposes to determine that the amendment request involves no significant hazards consideration.

Attorney for licensee: General Counsel, Tennessee Valley Authority, 400 West Summit Hill Drive, 6A West Tower, Knoxville, Tennessee 37902.

NRC Branch Chief: Douglas A. Broaddus.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Union Electric Company, Docket No. 50-483, Callaway Plant, Unit 1, Callaway County, Missouri

Date of amendment request: December 10, 2010, as supplemented by letters dated June 16 and October 27, 2011.

Brief description of amendment request: The proposed amendment would add a new Surveillance Requirement (SR) 3.3.8.6 to Technical Specification (TS) 3.3.8, “Emergency Exhaust System (EES) Actuation Instrumentation.” The new SR would require the performance of response time testing on the portion of the EES required to isolate the normal fuel building ventilation exhaust flow path and initiate the fuel building ventilation isolation signal (FBVIS) mode of operation. The proposed amendment also would revise TS Table 3.3.8-1 to indicate that new SR 3.3.8.6 applies to automatic actuation Function 2, “Automatic Actuation Logic and Actuation Relays (BOP ESFAS),” and Function 3, “Fuel Building Exhaust Radiation—Gaseous.” In addition, the specified frequency of new SR 3.3.8.6 would be relocated and controlled in accordance with the licensee's Surveillance Frequency Control Program in accordance with guidance in Nuclear Energy Institute (NEI) 04-10, “Risk-Informed Technical Specifications Initiative 5b, Risk-Informed Method for Control of Surveillance Frequencies.” Finally, there would be corresponding changes to the Final Safety Analysis Report (FSAR).

Date of publication of individual notice in Federal Register: November 29, 2011 (76 FR 73733).

Expiration dates of individual notice: Comments: December 29, 2011; Hearings: January 30, 2012.

Attorney for licensee: John O'Neill, Esq., Pillsbury Winthrop Shaw Pittman LLP, 2300 N Street NW., Washington, DC 20037.

NRC Branch Chief: Michael T. Markley.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see: (1) The applications for amendment, (2) the amendment, and (3) the Commission's related letter, Safety Evaluation and/or Environmental Assessment as indicated. All of these items are available for public inspection at the NRC's Public Document Room (PDR), located at One White Flint North, Room O1-F21, 11555 Rockville Pike (First Floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-(800) 397-4209, (301) 415-4737 or by email to pdr.resource@nrc.gov.

Exelon Generation Company, LLC, Docket Nos. 50-373 and 50-374, LaSalle County Station, Units 1 and 2, LaSalle County, Illinois

Date of application for amendments: April 4, 2011, as supplemented by letter dated August 15, 2011.

Brief description of amendments: The amendments revised Technical Specifications (TSs) to define a new time limit for restoring inoperable reactor coolant system (RCS) leakage detection instrumentation to operable status; establish alternate methods of monitoring RCS leakage when one or more required monitors are inoperable and make conforming TS Bases changes, which reflect the proposed changes; and more accurately reflect the contents of the facility design basis related to operability of the RCS leakage detection instrumentation. These changes are consistent with the NRC-approved Revision 3 to Technical Specification Task Force (TSTF) Standard Technical Specification Change Traveler TSTF-514, “Revise BWR [Boiling-Water Reactor] Operability Requirements and Actions for RCS Leakage Instrumentation.”

Date of issuance: December 7, 2011.

Effective date: As of the date of issuance and shall be implemented within 60 days of issuance.

Amendment Nos.: 204/191.

Facility Operating License Nos. NPF-11 and NPF-18: The amendments revised the Technical Specifications and Facility Operating License.

Date of initial notice in Federal Register: May 17, 2011 (76 FR 28473).

The August 15, 2011, supplement provided additional information that clarified the application, did not expand the scope of the application as originally noticed and did not change the NRC staff's initial proposed no significant hazards consideration determination.

The Commission's related evaluation of the amendments is contained in a Safety Evaluation dated December 7, 2011.

No significant hazards consideration comments received: No.

FirstEnergy Nuclear Operating Company, et al., Docket No. 50-346, Davis-Besse Nuclear Power Station, Unit 1 (DBNPS), Ottawa County, Ohio

Date of application for amendment: April 29, 2011.

Brief description of amendment: This amendment revises the DBNPS Technical Specification (TS) 3.4.15, “[Reactor Coolant System] RCS Leakage Detection Instrumentation” to define a new time limit for restoring inoperable RCS leakage detection instrumentation to operable status and establish alternate methods of monitoring RCS leakage when one or more required monitors are inoperable.

The amendment also makes TS Bases changes, which reflect the proposed TS changes, and more accurately reflect the contents of the facility design basis related to operability of the RCS leakage detection instrumentation.

The amendment is consistent with the guidance contained in Nuclear Regulatory Commission (NRC) approved Technical Specifications Task Force (TSTF) Change Traveler TSTF-513, Revision 3, “Revise [Pressurized-Water Reactor] PWR Operability Requirements and Actions for RCS Leakage Instrumentation.” TSTF-513, Revision 3, was made available by the NRC on January 3, 2011 (76 FR 189) as part of the consolidated line item improvement process.

Date of issuance: December 9, 2011.

Effective date: As of the date of issuance and shall be implemented within 90 days.

Amendment No.: 284.

Facility Operating License No. NPF-3: Amendment revised the Technical Specifications and License.

Date of initial notice in Federal Register: July 12, 2011 (76 FR 40940).

The Commission's related evaluation of the amendment is contained in a Safety Evaluation dated December 9, 2011.

No significant hazards consideration comments received: No.

Nine Mile Point Nuclear Station, LLC, Docket No. 50-410, Nine Mile Point Nuclear Station, Unit 2 (NMP2), Oswego County, New York

Date of application for amendment: March 30, 2011.

Brief description of amendment: The amendment changes the NMP2 Technical Specification (TS) Section 3.4.7, “RCS Leakage Detection Instrumentation,” to define a new time limit for restoring inoperable Reactor Coolant System (RCS) leakage detection instrumentation to operable status and establish alternate methods of monitoring RCS leakage when required monitors are inoperable. These changes are consistent with TS Task Force (TSTF) Standard Technical Specification Change Traveler TSTF-514, Revision 3, “Revise BWR Operability Requirements and Actions for RCS Leakage Instrumentation.”

Date of issuance: November 30, 2011.

Effective date: As of the date of issuance to be implemented within 90 days.

Amendment No.: 139.

Renewed Facility Operating License No. NPF-069: The amendment revises the License and TSs.

Date of initial notice in Federal Register: June 28, 2011 (76 FR 37849).

The Commission's related evaluation of the amendment is contained in a Safety Evaluation dated November 30, 2011.

No significant hazards consideration comments received: No.

Northern States Power Company—Minnesota, Docket Nos. 50-282 and 50-306, Prairie Island Nuclear Generating Plant, Units 1 and 2, Goodhue County, Minnesota

Date of application for amendments: February 4, 2011.

Brief description of amendments: The amendments make administrative changes to TSs 5.2.1 and 5.3 that: (1) Allow certain requirements of onsite and offsite organizations to be documented in the Quality Assurance Topical Report (QATR); and (2) remove reference to specific education and experience requirements for operator license applicants.

Date of issuance: December 1, 2011.

Effective date: As of the date of issuance and shall be implemented within 90 days.

Amendment Nos.: 205 and 192.

Facility Operating License Nos. DPR-42 and DPR-60: Amendments revised the Technical Specifications.

Date of initial notice in Federal Register: March 22, 2011 (76 FR 16008).

The Commission's related evaluation of the amendments is contained in a Safety Evaluation dated December 1, 2011.

No significant hazards consideration comments received: No.

For the Nuclear Regulatory Commission.
Dated at Rockville, Maryland, this 15th day of December 2011.
Michele G. Evans,
Director, Division of Operating Reactor Licensing, Office of Nuclear Reactor Regulation.

[FR Doc. 2011-33090 Filed 12-23-11; 8:45 am]

BILLING CODE 7590-01-P